DEPARTMENT OF TRANSPORTATION

Federal Aviation Administration

14 CFR Part 39

[Docket No. FAA-2017-1050; Product Identifier 2017-NE-39-AD]

RIN 2120-AA64

Airworthiness Directives; Rolls-Royce Deutschland Ltd & Co KG Turbofan Engines

AGENCY: Federal Aviation Administration (FAA), DOT.

ACTION: Notice of proposed rulemaking (NPRM).

SUMMARY: We propose to adopt a new airworthiness directive (AD) for certain Rolls-Royce Deutschland Ltd & Co KG (RRD) BR700-710A2-20 and BR700-710C4-11 turbofan engines. This proposed AD was prompted by reports of deterioration of the intumescent heat resistant paint system on the electronic engine controller (EEC) firebox assembly that was found to be beyond acceptable limits. This proposed AD would require replacement of affected EEC firebox assembly parts with improved parts, which have a more durable paint system. We are proposing this AD to address the unsafe condition on these products.

DATES: We must receive comments on this NPRM by March 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, Washington, DC 20590.

• Hand Delivery: Deliver to Mail address above between 9 a.m. and 5 p.m., Monday through Friday, except Federal holidays.

For service information identified in this proposed AD, contact Rolls-Royce Deutschland Ltd & Co KG, Eschenweg 11, Dahlewitz, 15827 Blankenfelde-Mahlow, Germany; phone: +49 (0) 33 7086 2673; fax: +49 (0) 33 7086 3276. You may view this service information at the FAA, Engine & Propeller Standards Branch, 1200 District Avenue, Burlington, MA. For information on the availability of this material at the FAA, call 781-238-7759.

Examining the AD Docket

You may examine the AD docket on the internet at http://www.regulations.gov by searching for and locating Docket No. FAA-2017-1050; or in person at the Docket Operations office between 9 a.m. and 5 p.m., Monday through Friday, except Federal holidays. The AD docket contains this NPRM, the mandatory continuing airworthiness information (MCAI), the regulatory evaluation, any comments received, and other information. The address for the Docket Office (phone: 800-647-5527) is in the ADDRESSES section. Comments will be available in the AD docket shortly after receipt.

FOR FURTHER INFORMATION CONTACT: Martin Adler, Aerospace Engineer, ECO Branch, FAA, 1200 District Avenue, Burlington, MA 01803; phone: 781-238-7157; fax: 781-238-7199; email: martin.adler@faa.gov.

SUPPLEMENTARY INFORMATION:

Comments Invited

We invite you to send any written relevant data, views, or arguments about this proposal. Send your comments to an address listed under the ADDRESSES section. Include “Docket No. FAA-2017-1050; Product Identifier 2017-NE-39-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

The European Aviation Safety Agency (EASA), which is the Technical Agent for the Member States of the European Community, has issued EASA AD No. 2017-0198, dated October 10, 2017 (referred to hereinafter as “the MCAI”), to correct an unsafe condition for the specified products. The MCAI states:

Occurrences were reported where deterioration of an Electronic Engine Controller (EEC) firebox assembly intumescent heat resistant paint system was found to be beyond acceptable limits. Subsequent investigation determined that lack of paint adhesion, due to incorrect surface preparation during manufacturing, had caused this deterioration.

This condition, if not corrected, could reduce the fire protection capability of the EEC firebox, possibly leading to reduced control of an engine during engine fire, engine overspeed and release of high-energy debris, resulting in damage to, and/or reduced control of, the aeroplane.

To address this potential unsafe condition, RRD issued Alert SB SB-BR700-73-A101977, SB-BR700-73-A101981 and SB-BR700-73-A101985 to provide modification instructions introducing improved new or reworked EEC firebox assembly parts, which have a more durable paint system.

For the reason described above, this AD requires replacement of affected EEC firebox assembly parts with improved parts.

You may obtain further information by examining the MCAI in the AD docket on the internet at http://www.regulations.gov by searching for and locating Docket No. FAA-2017-1050.

Related Service Information

We reviewed RRD Alert Service Bulletin (ASB) SB-BR700-73-A101977, Revision 3, dated July 10, 2017; RRD ASB SB-BR700-73-A101981, Revision 3, dated July 10, 2017; and RRD ASB SB-BR700-73-A101985, Revision 3, dated July 10, 2017. The service information describes procedures for installing new or reworked EEC firebox assembly parts for BR700-710A2-20, BR700-710C4-11, and BR700-710C4-11/10 engines, respectively.

FAA's Determination

This product has been approved by the aviation authority of Germany, and is approved for operation in the United States. Pursuant to our bilateral agreement with the European Community, EASA has notified us of the unsafe condition described in the MCAI. We are proposing this AD because we evaluated all the relevant information and determined the unsafe condition described previously is likely to exist or develop in other products of the same type design.

Proposed AD Requirements

This proposed AD would require replacement of affected EEC firebox assembly parts with improved parts, which have a more durable paint system.

Costs of Compliance

We estimate that this proposed AD affects 842 engines installed on airplanes of U.S. registry.

We estimate the following costs to comply with this proposed AD:

Estimated Costs
Action | Labor cost | Parts cost | Cost per product | Cost on U.S. operators
EEC firebox assembly replacement | 2.5 work-hours × $85 per hour = $212.50 | $4,900 | $5,112.50 | $4,304,725

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Rolls-Royce Deutschland GmbH (Type Certificate previously held by Rolls-Royce Deutschland GmbH, formerly BMW Rolls-Royce GmbH): Docket No. FAA-2017-1050; Product Identifier 2017-NE-39-AD.

(a) Comments Due Date

We must receive comments by March 29, 2018.

(b) Affected ADs

None.

(c) Applicability

This AD applies to:

(1) Rolls-Royce Deutschland (RRD) BR700-710A2-20 turbofan engines with any of the following electronic engine controller (EEC) firebox assembly part numbers (P/Ns) installed: FW42888, FW42886, FW38590, FW38591, or FW58255.

(2) RRD BR700-710C4-11 turbofan engines with any of the following EEC firebox assembly P/Ns installed: FW38504, FW38503, FW38590, FW38591, or FW58255.

(d) Subject

Joint Aircraft System Component (JASC) Code 7600, Engine Controls.

(e) Unsafe Condition

This AD was prompted by reports of deterioration of the intumescent heat resistant paint system on the EEC firebox assembly that was found to be beyond acceptable limits. We are issuing this AD to prevent failure of the EEC. The unsafe condition, if not corrected, could result in failure of the EEC, loss of engine thrust control, and reduced control of the airplane.

(f) Compliance

Comply with this AD within the compliance times specified, unless already done.

(g) Required Actions

(1) Within 6 months after the effective date of this AD, perform the following:

(i) For RRD BR700-710A2-20 engines, remove from service the EEC firebox assembly components with P/N FW42888, FW42886, FW38590, FW38591, and FW58255 and replace with parts eligible for installation.

(ii) For RRD BR700-710C4-11 engines, remove from service the EEC firebox assembly components with P/N FW38504, FW38503, FW38590, FW38591, and FW58255 and replace with parts eligible for installation.

(2) Reserved.

(h) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD. Information may be emailed to: ANE-AD-AMOC@faa.gov.

(2) Before using any approved AMOC, notify your appropriate principal inspector, or lacking a principal inspector, the manager of the local flight standards district office/certificate holding district office.

(i) Related Information

(1) For more information about this AD, contact Martin Adler, Aerospace Engineer, ECO Branch, FAA, 1200 District Avenue, Burlington, MA 01803; phone: 781-238-7157; fax: 781-238-7199; email: martin.adler@faa.gov.

(2) Refer to MCAI EASA AD No. 2017-0198, dated October 10, 2017, for more information. You may examine the MCAI in the AD docket on the internet at http://www.regulations.gov by searching for and locating it in Docket No. FAA-2017-1050.

Issued in Burlington, Massachusetts, on February 5, 2018.
Robert J. Ganley,
Manager, Engine and Propeller Standards Branch, Aircraft Certification Service.

[FR Doc. 2018-02600 Filed 2-9-18; 8:45 am]

BILLING CODE 4910-13-P